DEPARTMENT OF TRANSPORTATION

Federal Transit Administration

Fiscal Year 2020 Competitive Funding Opportunity: Mobility for All Pilot Program

AGENCY: Federal Transit Administration (FTA), Department of Transportation (DOT).

ACTION: Notice of Funding Opportunity (NOFO).

SUMMARY: The Federal Transit Administration (FTA) announces the opportunity to apply for approximately $3.5 million in Fiscal Year (FY) 2020 funds under the Innovative Coordinated Access and Mobility (Mobility for All) pilot program; (Catalog of Federal Domestic Assistance number: 20.513). Funding under this pilot program is subject to the availability of a full-year appropriation. This funding opportunity seeks to improve mobility options through employing innovative coordination of transportation strategies and building partnerships to enhance mobility and access to vital community services for older adults, individuals with disabilities, and people of low income. As required by Federal public transportation law, funds will be awarded competitively to finance innovative capital projects that will improve the coordination of transportation services and non-emergency medical transportation services. FTA may award additional funding that is made available to the program prior to the announcement of project selections.

DATES: Applicants must submit completed proposals for each funding opportunity through the GRANTS.GOV “APPLY” function by 11:59 p.m. Eastern Daylight Time on Monday, January 6, 2020. Prospective applicants should register as soon as possible on the GRANTS.GOV website to ensure they can complete the application process before the submission deadline. Application instructions are available on FTA's website at http://transit.dot.gov/howtoapply and in the “FIND” module of GRANTS.GOV. The GRANTS.GOV funding opportunity ID for the Mobility for All Coordination (MOAC) is FTA-2020-001-TPM. The FTA will not accept mail and fax submissions.

FOR FURTHER INFORMATION CONTACT: Kelly Tyler, FTA Office of Program Management; Phone: (202) 366-3102; Email: Kelly.Tyler@dot.gov; Fax: (202) 366-3475.

SUPPLEMENTARY INFORMATION:

Table of Contents

A. Program Description

B. Federal Award Information

C. Eligibility Information

D. Application and Submission Information

E. Application Review Information

F. Federal Award Administration Information

G. Federal Awarding Agency Contact

A. Program Description

Section 3006(b) of the Fixing America's Surface Transportation (FAST) Act (Pub. L. 114-94, Dec. 4, 2015) authorizes FTA to award grants for Innovative Coordinated Access and Mobility (Mobility for All) pilot projects for transportation disadvantaged populations that improve the coordination of transportation services and non-emergency medical transportation services. In FY 2020, FTA intends to target funds towards projects that support coordination amongst programs funded by the Coordinating Council on Access and Mobility (CCAM).

The CCAM consists of eleven Federal agencies and coordinates more than 120 Federal programs that may fund transportation. The CCAM's mission is to improve the availability, accessibility, and efficiency of transportation for people who are transportation disadvantaged. The benefits of successful coordinated transportation systems include providing greater access to funding and enabling more cost-effective use of resources, reducing duplication and overlap in human service agency transportation services; filling service gaps in a community or geographic area; serving additional individuals within existing budgets; and providing more centralized management of existing resources.

The Mobility for All pilot program will improve local coordination by encouraging cooperation among grantees of 122 Federal programs that fund human service transportation. A current list of these 122 Federal programs can be accessed at https://www.transit.dot.gov/ccam/about/partner-agencies. Successful projects will work collaboratively and leverage partnerships with grantees and constituents of the Federal agencies that are members of the CCAM, such as the Department of Health and Human Services' operating divisions such as the Administration for Community Living, the Health Resources and Services Administration, and the Centers for Medicare and Medicaid Services.

Successful applicants will demonstrate progress towards implementing single same-day, door-to-door service to improve mobility in their community, and increasing efficiency by using the same vehicles to transport passengers whose trips are funded via different Federal programs. Applicants will use innovative cost allocation technology (for example, the cost allocation model developed by the National Rural Transit Assistance Program) to demonstrate how costs can be shared equitably among participating local and regional organizations who receive funding from a variety of Federal agencies. Applicants should show support for coordination by providing letters of commitment from entities such as: Local community service organizations, medical providers and other Federal grantees interested in contracting for transportation trips with the Mobility for All service.

Projects may focus on serving rural areas, and populations affected by healthcare challenges—such as the opioid epidemic, veterans, Medicaid recipients, and/or any population that is currently underserved by non-emergency medical transportation (NEMT).

The Mobility for All pilot program grants will support capital projects that address the challenges the transportation disadvantaged face when accessing healthcare and other essential community services. The goals are to:

(1) Increase access to funding sources that can fund transportation;

(2) fill gaps in service and reduce duplication; and

(3) provide more efficient service to underserved populations in rural and small urban areas.

The Mobility for All grants will operate as pilots for up to 18 months.

Within the first year, projects must be able to demonstrate outcomes that are:

• Effective, in that they get people where they need to go;

• efficient, in that they use public dollars economically; and

• accessible, in that services are easy for travelers to navigate and use.

B. Federal Award Information

Section 3006(b) of the FAST Act (Pub. L. 114-94) authorizes $3,500,000 in FY 2020 for grants under the Mobility for All pilot program. FTA may cap the amount a single recipient or State may receive as part of the selection process. FTA will approve pre-award authority pursuant to 2 CFR 200.458 to incur costs for selected projects beginning on the date FTA announces recipients of the FY 2020 awards. Funds are only available for projects that have not incurred costs prior to the announcement of project selections.

C. Eligibility Information

1. Eligible Applicants

Eligible applicants for awards are States, tribes, designated or direct recipients under 49 U.S.C. 5307, 5310 or 5311.

Applicants must serve as the lead agency of a local consortium that includes stakeholders from the transportation, healthcare, human service or other sectors. Members of this consortium are eligible as subrecipients. Further, applicants must demonstrate that the proposed project was planned through an inclusive process with the involvement of the transportation, healthcare and human service sectors. An implementation plan and schedule must be submitted as part of the proposal.

ii. Cost Sharing or Matching

The maximum Federal share of project costs under the Mobility for All pilot program is 80 percent. The applicant must provide a local share of at least 20 percent of the project cost and must document the source of the local match in the grant application.

Eligible sources of local match include cash and in-kind contributions. In-kind contributions must be documented in the application.

iii. Eligible Projects

Eligible projects are capital projects, as defined in 49 U.S.C. 5302(3). FTA may make grants to assist in financing innovative projects for the transportation disadvantaged that improve the coordination of transportation services and non-emergency medical transportation services including: The deployment of coordination technology; projects that create or increase access to community one-call/one-click centers; and other innovative projects. FTA's goal for these pilot program grants is to identify and test promising, innovative, coordinated mobility strategies other communities can replicate. Only one project may be included in each application.

Funds under the Mobility for All pilot program may be used for capital expenditures only. Additionally, funds under this NOFO cannot be used to reimburse applicants for otherwise eligible expenses incurred prior to the selection of projects under this NOFO.

D. Application and Submission Information

1. Address To Request Application

Applications must be submitted through GRANTS.GOV. Applicants can find general information for submitting applications through GRANTS.GOV at https://www.transit.dot.gov/funding/grants/applying/applying-fta-funding, along with specific instructions for the forms and attachments required for submission. Mail and fax submissions will not be accepted. A complete proposal submission consists of two forms:

• The SF-424 Mandatory Form (downloadable from GRANTS.GOV); and

• Supplemental Form for the FY 2020 Mobility for All Coordination Pilot Program

at https://www.transit.dot.gov/funding/grants/enhanced-mobility-seniors-individuals-disabilities-section-5310). Applicants also may attach additional supporting information. Failure to submit the information as requested can delay or prevent review of the application.

2. Content and Form of Application Submission

i. Proposal Submission

A complete proposal submission consists of at least two forms, the SF-424 Mandatory Form, and the Supplemental Form for the FY 2020 Mobility for All Coordination Pilot Program. The application must include responses to all sections of the SF-424 mandatory form and the supplemental form unless a section is indicated as optional. FTA will use the information on the supplemental form to determine applicant and project eligibility for the program and to evaluate the proposal against the selection criteria described in part E of this notice. FTA will accept only one supplemental form per SF-424 submission. FTA encourages States and other applicants to consider submitting a single supplemental form that includes multiple activities to be evaluated as a consolidated proposal. If States or other applicants choose to submit separate proposals for individual consideration by FTA, they must submit each proposal with a separate SF-424 and supplemental form.

Applicants may attach additional supporting information to the SF-424 submission, including but not limited to letters of support, project budgets, fleet status reports, or excerpts from relevant planning documents. Supporting documentation must be described and referenced by file name in the appropriate response section of the supplemental form, or it may not be reviewed.

Information such as applicant name, Federal amount requested, local match amount, description of areas served, etc., may be requested in varying degrees of detail on both the SF-424 form and supplemental form. Applicants must fill in all fields unless stated otherwise on the forms. If applicants copy information into the supplemental form from another source, they should verify that the supplemental form has fully captured pasted text and that it has not truncated the text due to character limits built into the form. Applicants should use both the “Check Package for Errors” and the “Validate Form” buttons on both forms to check all required fields. Applicants should also ensure that the Federal and local amounts specified are consistent.

ii. Application Content

The SF-424 Mandatory Form and the supplemental form will prompt applicants for the required information, including:

a. Applicant Name

b. Dun and Bradstreet (D&B) Data Universal Numbering System (DUNS) number

c. Key contact information (including contact name, address, email address, and phone)

d. Congressional district(s) where project will take place

e. Indicate whether the project is in an Opportunity Zone

f. Project Information (including title, an executive summary, and type)

g. A detailed description of the need for the project

h. A detailed description of how the project will support the Mobility for All Coordination Pilot Program objectives

i. Evidence that the project is consistent with local and regional planning documents and/or that the project is consistent with local and regional Services Transportation Plans

j. Evidence that the applicant can provide the local cost share and details on the local matching funds

k. A description of the technical, legal, and financial capacity of the applicant

l. A detailed project budget (up to 18 months or less)

m. An explanation of the scalability of the project (if applicable)

n. A detailed project timeline

3. Unique Entity Identifier and System for Award Management (SAM)

Each applicant is required to: (1) Register in SAM before applying; (2) provide a valid unique entity identifier; and (3) to maintain an active SAM registration with current information during which the applicant has an active Federal award or an application or plan under consideration by FTA. These requirements do not apply if the applicant: (1) Is an individual; (2) is excepted from the requirements under 2 CFR 25.110(b) or (c); or (3) has an exception approved by FTA under 2 CFR 25.110(d). FTA may not make an award until the applicant has complied with all applicable unique entity identifier and SAM requirements. If an applicant has not fully complied with the requirements by the time FTA is ready to make an award, FTA may determine that the applicant is not qualified to receive an award and use that determination as a basis for making a Federal award to another applicant. Registration in SAM may take as little as 3-5 business days, but there can be unexpected steps or delays. For example, the applicant may need to obtain an Employer Identification Number. FTA recommends allowing ample time, up to several weeks, to complete all steps. For additional information on obtaining a unique entity identifier, please visit www.sam.gov.

The FTA will provide further instructions on registration through an introductory applicant training session. Dates and times for the training session will be posted on FTA's website at https://www.transit.dot.gov/funding/grants/grant-programs/mobility-all-grants.

4. Submission Dates and Times

Project proposals must be submitted electronically through GRANTS.GOV by 11:59 p.m. Eastern Daylight Time on Monday, January 6, 2020. Late applications will not be accepted. Mail and fax submissions will not be accepted.

FTA urges applicants to submit applications at least 72 hours prior to the due date to allow time to correct any problems that may have caused either GRANTS.GOV or FTA systems to reject the submission. Deadlines will not be extended due to scheduled website maintenance. GRANTS.GOV scheduled maintenance and outage times are announced on the GRANTS.GOV website.

Within 48 hours after submitting an electronic application, the applicant should receive two email messages from GRANTS.GOV: (1) Confirmation of successful transmission to GRANTS.GOV; and (2) confirmation of successful validation by GRANTS.GOV. If the applicant does not receive confirmation of successful validation or receives a notice of failed validation or incomplete materials, the applicant must address the reason for the failed validation, as described in the email notice, and resubmit before the submission deadline. If making a resubmission for any reason, applicants must include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to update their registration before submitting an application. Registration in SAM is renewed annually and persons making submissions on behalf of the Authorized Organization Representative (AOR) must be authorized in GRANTS.GOV by the AOR to make submissions.

5. Funding Restrictions

Funds under the Mobility for All pilot program may be used for capital expenditures only that are tied to the locally developed Coordinated Public Transit-Human Services Transportation Plan or State Improvement Plan/Transportation Improvement Plan. Eligible projects are capital projects, as defined in 49 U.S.C. 5302(3).

6. Other Submission Requirements

FTA encourages applicants to identify scaled funding options in case insufficient funding is available to fund a project at the fully requested amount. If an applicant indicates that a project is scalable, the applicant must provide an appropriate minimum funding amount that will fund an eligible project that achieves the objectives of the program and meets all relevant program requirements. The applicant must provide a clear explanation of how a reduced award would affect the project budget. FTA may award a lesser amount regardless of whether the applicant provides a scalable option.

E. Application Review Information

1. Project Evaluation Criteria

Each application submitted for the Mobility for All pilot program must include: (1) A detailed description of the project; (2) an identification of all project partners and their specific role in the eligible project; (3) specific performance measures the project will use to quantify actual outcomes against expected outcomes; and (4) a description of how the project will:

• Increase access to funding sources that can fund transportation;

• fill gaps in service and reduce duplication; and

• provide more efficient service to underserved populations in rural and small urban areas.

FTA will evaluate proposals submitted according to the following criteria: (a) Demonstration of need; (b) demonstration of benefits; (c) planning and partnerships; (d) local financial commitment; (e) project readiness; and (f) technical, legal, and financial capacity. Each applicant is encouraged to provide a succinct, logical, and orderly response to all criteria referenced in this NOFO. Additional information may be provided to support the responses; however, any additional documentation must be directly referenced on the supplemental form, including the file name where the additional information can be found.

a. Demonstration of Need

FTA will evaluate proposals based on how the proposed project will address the need or challenges to improving coordination of transportation services serving rural or small urban areas, populations affected by healthcare challenges such as the opioid epidemic, veterans, Medicaid recipients, and/or any population that is currently underserved by NEMT. FTA will consider both the scope of the overall need or challenge, and the size of the specific segment of the population served by the proposed project.

b. Demonstration of Benefits

FTA will evaluate proposals on the benefits provided by the proposed project. Benefits will be tied to the Mobility for All pilot program goals of: (1) Increased access to funding sources that fund transportation; (2) filling gaps in service and reducing duplication of service; and (3) better serving underserved populations in rural and small urban areas. Proposals will be judged on the extent to which the proposed project demonstrates a benefit to the transportation need or challenge to mobility and access to services demonstrated above. Projects will be evaluated on the ability of the proposed project to yield data demonstrating impacts on the goals of FTA's Mobility for All pilot program. Proposals must show that the applicant will be able to provide impact data during and after the pilot project. FTA will conduct an independent evaluation of each pilot project. FTA requires each applicant to submit the performance data on a quarterly basis. This data will be used by FTA to produce the required Annual Report to Congress that contains detailed description of the activities carried out under the pilot program, and an evaluation of the program, including an evaluation of the performance measures described.

c. Planning and Partnerships

Applicants must describe the eligible project and outline project partners and their specific role in the project. Successful projects will work collaboratively and leverage partnerships with grantees and constituents of the Federal agencies that are members of the CCAM, such as the Department of Health and Human Services' Administration for Community Living, the Health Resources and Services Administration, and the Centers for Medicare and Medicaid Services. A list of CCAM partners may be accessed by going to https://www.transit.dot.gov/ccam/about/partner-agencies. Partners also may include private and nonprofit entities involved in the coordination of nonemergency medical transportation services for the transportation disadvantaged. Applicants should provide evidence of strong commitment from key partners, including memoranda of agreement or letters of support from relevant local stakeholders and partner organizations. Any changes to the proposed partnerships will require FTA's advance approval and must be consistent with the scope of the approved project. Projects should be derived from a locally developed, coordinated public transit-human services transportation plan.

d. Local Financial Commitment

Applicants must identify the source of the local share and describe whether such funds are currently available for the project or will need to be secured if the project is selected for funding. FTA will consider the availability of the local share as evidence of local financial commitment to the project. In addition, an applicant may propose a local share that is greater than the minimum requirement or provide documentation of previous local investment in the project as evidence of local financial commitment.

e. Project Readiness

FTA will evaluate the project on the proposed schedule and the applicant's ability to implement it. Applicants should indicate the short-term, mid-range, and long-term goals for the project. Applicants also must describe how the project will help the transportation disadvantaged and improve the coordination of transportation services and non-emergency medical transportation services. Proposals must provide specific performance measures the eligible project will use to quantify actual outcomes against expected outcomes. FTA will evaluate the project on the extent to which it was developed inclusively, incorporating meaningful involvement from key stakeholders including consumer representatives of the target groups and providers from the healthcare, transportation, and human services sectors, among others. The applicant must show significant, ongoing involvement of the project's target population.

f. Technical, Legal and Financial Capacity

FTA will evaluate proposals on the capacity of the lead agency and any partners to successfully execute the pilot effort. The applicant should have no outstanding legal, technical, or financial issues that would make this a high-risk project. FTA will evaluate each proposal (including the business plan, financial projections, and other relevant data) for feasibility and longer-term sustainability of both the pilot project as well as the proposed project at full deployment. FTA intends to select projects with a high likelihood of long-term success and sustainability.

2. Review and Selection Process

A technical evaluation committee made up of FTA staff will evaluate proposals based on the published evaluation criteria. After applying the above criteria, the FTA Administrator will consider the following key Departmental objectives:

• Supporting economic vitality at the national and regional level;

• Utilizing alternative funding sources and innovative financing models to attract non-Federal sources of infrastructure investment;

• Accounting for the life-cycle costs of the project to promote a state of good repair;

• Using innovative approaches to improve safety and expedite project delivery; and

• Holding grant recipients accountable for their performance and achieving specific, measurable outcomes identified by grant applicants.

Prior to making an award, FTA is required to review and consider any information about the applicant that is in the Federal Awardee Performance and Integrity Information Systems (FAPIIS) accessible through SAM. An applicant may review and comment on information about itself that a Federal awarding agency previously entered. FTA will consider any comments by the applicant, in addition to the other information in FAPIIS, in making a judgment about the applicant's integrity, business ethics, and record of performance under Federal awards when completing the review of risk posed by applicants as described in 2 CFR 200.205, Federal Awarding Agency Review of Risk Posed by Applicants. In determining the allocation of program funds, FTA may consider geographic diversity, diversity in the size of the transit systems receiving funding, the applicant's receipt of other competitive awards, projects located in or that support public transportation service in a qualified opportunity zone designated pursuant to 26 U.S.C. 1400Z-1, and the percentage of local share provided.

F. Federal Award Administration Information

1. Federal Award Notices

FTA Administrator will announce the final project selections on the FTA website. Project recipients should contact their FTA Regional Office for additional information regarding allocations for projects under each program.

At the time FTA announces project selections, FTA will extend pre-award authority pursuant to 2 CFR 200.458 for the selected projects. There is no blanket pre-award authority for these projects before announcement.

2. Award Administration

There is no minimum or maximum grant award amount; however, FTA intends to fund as many meritorious projects as possible. FTA will only consider proposals from eligible recipients for eligible activities. Due to funding limitations, projects selected for funding may receive less than the amount originally requested. In those cases, applicants must be able to demonstrate that the proposed projects are still viable, meet all eligibility requirements, and can be completed with the amount awarded.

3. Administrative and National Policy Requirements

i. Pre-Award Authority

FTA will issue specific guidance to recipients regarding pre-award authority at the time of selection. FTA does not provide pre-award authority for competitive funds until projects are selected, and there are Federal requirements that must be met before costs are incurred. For more information about FTA's policy on pre-award authority, please see the FY 2019 Apportionments Notice published on July 3, 2019, at https://www.govinfo.gov/content/pkg/FR-2019-07-03/pdf/2019-14248.pdf

ii. Grant Requirements

Selected applicants will submit a grant application through FTA's electronic grant management system and adhere to FTA grant requirements. All competitive grants will be subject to the congressional notification and release process. FTA emphasizes that third-party procurement applies to all funding awards, as described in FTA Circular 4220.1F, “Third Party Contracting Guidance.” However, FTA may approve applications that include a specifically identified partnering organization(s) (2 CFR 200.302(f)). When included, the application, budget, and budget narrative should provide a clear understanding of how the selection of these organizations is critical for the project and give sufficient detail about the costs involved.

iii. Planning

FTA encourages applicants to engage the appropriate State Departments of Transportation, Regional Transportation Planning Organizations, or Metropolitan Planning Organizations in areas to be served by the project funds available under these programs.

iv. Standard Assurances

By submitting an application, the applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

v. Reporting

Post-award reporting requirements include submission of Federal Financial Reports and Milestone Progress Reports in FTA's electronic grants management system. An independent evaluation of the pilot program may occur at various points in the deployment process and at the end of the pilot project. In addition, FTA is responsible for producing an Annual Report to Congress that compiles evaluations of selected projects, including an evaluation of the performance measures identified by the applicants. All applicants must develop an evaluation plan to measure the success or failure of their projects and to describe any plans for broad-based implementation of successful projects. FTA may request data and reports to support the independent evaluation and annual report.

G. Federal Awarding Agency Contact

For questions about applying to the pilot program outlined in this notice, please contact the Program Manager, Kelly Tyler, at Federal Transit Administration, phone: (202) 366-3102, fax: (202) 366-3475, or email, Kelly.Tyler@dot.gov. A TDD is available at 1-800-877-8339 (TDDFIRS). Additionally, you may visit FTA's website for this program at https://www.transit.dot.gov/funding/grants/grant-programs/mobility-all-grants.

To ensure that applicants receive accurate information about eligibility or the program, applicants are encouraged to contact FTA directly with questions, rather than through intermediaries or third parties. FTA staff also may conduct briefings on the FY 2020 competitive grants selection and award process upon request.

K. Jane Williams,
Acting Administrator.

Address Name

Address Line 2

City, State, Zip

Dear Name:

Thank you for your letter supporting the application submitted by Applicant for funding under the U.S. Department of Transportation's Mobility for All pilot program.

The Federal Transit Administration (FTA) administers the Mobility for All pilot program, authorized by Section 3006(b) of the Fixing America's Surface Transportation Act. This program supports innovative coordinated access and mobility projects that improve the coordination of transportation services and non-emergency medical transportation services for the transportation disadvantaged populations.

All properly submitted applications will receive full and careful consideration. FTA will announce final project selections after the review process is complete.

Your interest in this program is appreciated.

Sincerely,

Signatory

[FR Doc. 2019-23892 Filed 10-31-19; 8:45 am]

BILLING CODE 4910-57-P